DEPARTMENT OF HEALTH AND HUMAN SERVICES

Health Resources and Services Administration

Agency Information Collection Activities: Proposed Collection: Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: The Health Education Assistance Loan (HEAL) Program Regulations (OMB No. 0915-0108) Extension

The Health Education Assistance Loan (HEAL) Program has regulations that contain notification, reporting and recordkeeping requirements to ensure that the lenders, holders and schools participating in the HEAL program follow sound management procedures in the administration of federally-insured student loans. While the regulatory requirements are approved under the OMB number referenced above, much of the burden associated with the submission of required HEAL forms and certain reporting requirements is approved under separate OMB numbers. The table below provides the estimate of burden for the remaining regulations.

The estimates of burden are as follows:

Reporting Requirements
Number of respondents | Number of transactions | Total transactions | Hours per response (min) | Total burden hours
17 Holders | 5 | 78 | 12 | 16
190 Schools | .4 | 78 | 10 | 13
Total Reporting |  |  |  | 29

Notification Requirements
Number of respondents | Number of transactions | Total transactions | Hours per response (min) | Total burden hours
7,930 Borrowers | 1 | 7,930 | 10 | 1,322
17 Holders | 7,910 | 134,470 | 10 | 22,412
190 Schools | .89 | 170 | 14 | 40
Total Notification |  |  |  | 23,774

Recordkeeping Requirements
Number of respondents | Number of transactions | Total transactions | Hours per response (min) | Total burden hours
17 Holders | 3,568 | 60,657 | 14 | 14,153
190 Schools | 257 | 48,822 | 15 | 12,206
Total Recordkeeping |  |  |  | 26,359
Total |  |  |  | 50,162

Written comments and recommendations concerning the proposed information collection should be sent within 30 days of this notice to the desk officer for HRSA, either by e-mail to OIRA_submission@omb.eop.gov or by fax to 202-395-6974. Please direct all correspondence to the “attention of the desk officer for HRSA.”

Dated: February 5, 2010.
Sahira Rafiullah,
Director, Division of Policy Review and Coordination.

[FR Doc. 2010-3167 Filed 2-18-10; 8:45 am]

BILLING CODE 4165-15-P